DEPARTMENT OF JUSTICE

Notice of Lodging of Proposed Consent Decree Under the Clean Water Act

On April 8, 2015, the Department of Justice lodged a proposed Consent Decree with the United States District Court for the Western District of Missouri in the lawsuit entitled United States v. Missouri Highway Transportation Commission, Civil Action No. 15-4069.

The Complaint alleges that the Missouri Highway Transportation Commission (MHTC) violated the National Pollution Discharge Elimination System (NPDES) permit issued to it under of the Clean Water Act, 33 U.S.C. 1311 et seq., at two highway construction and improvement sites in Missouri (Highways 54 and 67). Inspections by the U.S. Environmental Protection Agency documented numerous violations of the NPDES permit's stormwater requirements. The proposed Consent Decree requires MHTC to pay a civil penalty of $750,000 penalty, and to institute certain procedures and policies to enhance its compliance with stormwater requirements including: creating a specified stormwater management structure, implementing a training program, adhering to certain pre-construction requirements, implementing an enhanced inspection regime, and improving its stormwater deficiency tracking and correction scheme.

The publication of this notice opens a period for public comment on the Consent Decree. Comments should be addressed to the Assistant Attorney General, Environment and Natural Resources Division, and should refer to United States v. Missouri Highway and Transportation Commission, D.J. Ref. No. 90-5-1-1-10421. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $14.25 (25 cents per page reproduction cost) payable to the United States Treasury.

Susan M. Akers,
Assistant Section Chief, Environmental Enforcement Section, Environment and Natural Resources Division.

[FR Doc. 2015-08426 Filed 4-13-15; 8:45 am]

BILLING CODE 4410-15-P